DEPARTMENT OF HEALTH AND HUMAN SERVICES

Centers for Disease Control and Prevention

[Program Announcement 01058]

Notice of Availability of Funds; Information System To Reduce Medical Errors

A. Purpose

The Centers for Disease Control and Prevention (CDC) announces the availability of fiscal year (FY) 2001 funds for a grant program with Fletcher Allen Health Care of Burlington, Vermont, to design and implement a state-of-the-art information system to reduce medical errors. This program addresses the “Healthy People 2010” focus area of Immunization and Infectious Diseases. For additional information on “Healthy People 2010” visit the internet site: http://www.health.gov/healthypeople.

The purpose of the program is to develop and demonstrate clinical information systems to prevent medical errors and improve the quality of healthcare. Integration of information systems will directly attack the issue of medical errors, which can proliferate as patients and data are handed off from one delivery system to another.

B. Eligible Applicants

Assistance will be provided only to Fletcher Allen Health Care of Burlington, Vermont. No other applications are solicited. Eligibility is limited to Fletcher Allen Health Care because fiscal year 2001 Federal appropriations specifically directs CDC to award this applicant funds to design and implement a state-of-the-art information system to reduce medical errors.

The House of Representatives Conference Report, accompanying the Departments of Labor, Health and Human Services, and Education and Related Agencies Appropriation Bill, 2000 (H.R. 4577, 106th Cong. (2000)), recognized the Fletcher Allen Health Care's unique qualifications for carrying out the activities specified in this grant (H.R. Rep. 106-1033 2000).

Note: Title 2 of the United States Code, chapter 26, section 1611 states that an organization, described in section 501(c)(4) of the Internal Revenue Code of 1986, that engages in lobbying activities is not eligible to receive Federal funds constituting an award, grant, cooperative agreement, contract, loan or any other form.

C. Availability of Funds

Approximately $253,000 is available in FY 2001 to fund the award. It is expected that the award will begin on or about August 1, 2001, and will be made for a 12-month budget period within a project period of one year. The funding estimate may change.

D. Program Requirements

In conducting activities to achieve the purpose of this program, the recipient will be responsible for the following activities.

1. Develop an information system that includes patient, clinical, encounter, laboratory, and pharmacy data.

2. Configure the information system so that it serves the needs of physicians and other healthcare providers.

3. Expand the information system to support best practice algorithms, clinical trials, outcome studies, and continuous quality improvement protocols.

4. Publish results of project.

E. Application Content

Use the information in the Program Requirements, Other Requirements, and Evaluation Criteria sections to develop the application content. The application will be evaluated on the criteria listed, so it is important to follow them specifically in laying out the program plan. The narrative should be no more than 25 double-spaced pages, printed on one side, with one-inch margins, and unreduced font.

F. Submission and Deadline

Application

Submit the original and two copies of PHS 5161-1 (OMB Number 0937-0189). Forms are available at the following Internet address: www.cdc.gov/. . . Forms, or in the application kit.

On or before June 1, 2001, submit the application to the Grants Management Specialist identified in the “Where to Obtain Additional Information” section of this announcement.

G. Evaluation Criteria

The application will be evaluated against the following criteria by an independent review group appointed by CDC:

1. Background/Need (20 points)

The extent to which the applicant demonstrates a strong understanding of information systems. The extent to which the applicant illustrates the need for this grant program. The extent to which the applicant presents a clear goal for this grant that is consistent with the described need.

2. Capacity (30 points)

The extent to which the applicant demonstrates that it has the expertise, facilities, and other resources necessary to accomplish the program requirements, including curricula vitae of key personnel and letters of support from any participating organizations/institutions.

3. Operational Plan (40 points)

The extent to which the applicant presents clear, time-phased objectives that are consistent with the stated program goal and a detailed operational plan outlining specific activities that are likely to achieve the objectives. The extent to which the plan clearly outlines the responsibilities of each of the key personnel.

4. Evaluation Plan (10 points)

The extent to which the applicant presents a plan for monitoring progress toward the stated goals and objectives.

5. Budget (not scored)

The extent to which the applicant presents a detailed budget with a line-item justification and any other information to demonstrate that the request for assistance is consistent with the purpose and objectives of this grant program.

H. Other Requirements

Technical Reporting Requirements

Provide CDC with the original plus two copies of

1. progress report (semi-annual);

2. financial status report, no more than 90 days after the end of the budget period; and

3. final financial and performance reports, no more than 90 days after the end of the project period.

Send all reports to the Grants Management Specialist identified in the “Where to Obtain Additional Information” section of this announcement.

The following additional requirements are applicable to this program. For a complete description of each, see Attachment I in the application kit.

AR-10 Smoke-Free Workplace Requirements

AR-11 Healthy People 2010

AR-12 Lobbying Restrictions

AR-15 Proof of Non-Profit Status

I. Authority and Catalog of Federal Domestic Assistance Number

This program is authorized under Sections 301(a) and 317(k)(2) of the Public Health Service Act [42 U.S.C. Sections 241(a) and 247b(k)(2)], as amended. The Catalog of Federal Domestic Assistance number is 93.283.

J. Where to Obtain Additional Information

This and other CDC announcements can be found on the CDC home page Internet address: http://www.cdc.gov. Click on “Funding” then “Grants and Cooperative Agreements.”

To obtain additional information, contact: Merlin Williams, Grants Management Specialist, Grants Management Branch, Procurement and Grants Office, Centers for Disease Control and Prevention (CDC), 2920 Brandywine Road, Room 3000, M/S K75, Atlanta, GA 30341-4146, Telephone: (770) 488-2765), Email address: Mwilliams@cdc.gov.

For program technical assistance, contact: Steve Solomon, M.D., National Center for Infectious Diseases, Centers for Disease Control and Prevention (CDC), 1600 Clifton Road, NE., M/S A-07, Atlanta, GA 30333, Telephone: (404) 639-6476, Facsimile: (404) 639-6483, Email address: SSolomon@cdc.gov.

Dated: April 16, 2001.
John L. Williams,
Director, Procurement and Grants Office, Centers for Disease Control and Prevention (CDC).

[FR Doc. 01-9811 Filed 4-19-01; 8:45 am]

BILLING CODE 4163-18-P